DEPARTMENT OF TRANSPORTATION

Federal Aviation Administration

RTCA Special Committee 196: Night Vision Goggle (NVG) Appliances and Equipment

AGENCY: Federal Aviation Administration (FAA), DOT.

ACTION: Notice of RTCA Special Committee 196 meeting.

SUMMARY: The FAA is issuing this notice to advise the public of a meeting of RTCA Special Committee 199: Night Vision Goggle (NVG) Appliances and Equipment.

DATES: The meeting will be held March 11-12, 2004, starting at 9 a.m.

ADDRESSES: The meeting will be held at Las Vegas Hilton, 3000 Paradise Road, Las Vegas, Nevada.

FOR FURTHER INFORMATION CONTACT: RTCA Secretariat, 1140 Connecticut Avenue, NW., Washington, DC 20036; telephone (202) 833-9339; fax (202) 833-9434; Web site http://www.rtca.org.

SUPPLEMENTARY INFORMATION: Pursuant to section 10(a)(2) of the Federal Advisory Committee Act (Pub. L. 92-463, 5 U.S.C., appendix 2), notice is hereby given for a Special Committee 196 meeting. The agenda will include:

March 11-12:

• Opening Session (Welcome and Introductory Remarks, Agenda Overview, Approve Minutes of Previous Meeting)

• Overview of SC-196 Working Group Activities

• Introductions of Working Group 5 (Training Guidelines/Considerations) Chairpersons

• FAA desired use for guidelines document/document layout and contents

• HBAT 8400.10 Special Training Chapter 2

• RTCA SC-196 Training Guidelines Document Version 6

• Timeline for Completion—September 2004

• Review of current Training Guidelines Template

• Sub-group development for Training Document

• Closing Session (Other Business, Establish Agenda for Next Meeting, Date and Place of Next Meeting)

Attendance is open to the interested public but limited to space availability. With the approval of the chairmen, members of the public may present oral statements at the meeting. Persons wishing to present statements or obtain information should contact the person listed in the FOR FURTHER INFORMATION CONTACT section. Members of the public may present a written statement to the committee at any time.

Issued in Washington, DC, on February 10, 2004.
Robert Zoldos,
FAA System Engineer, RTCA Advisory Committee.

[FR Doc. 04-4193 Filed 2-24-04; 8:45 am]

BILLING CODE 4910-13-M